DEPARTMENT OF THE INTERIOR

Bureau of Land Management

[OR-936-1430-FQ; HAG-07-0073; OR-20301 et al]

Public Land Order No. 7616; Partial Revocation of 7 Secretarial Orders; Oregon; Correction

AGENCY: Bureau of Land Management, Interior.

ACTION: Correction.

SUMMARY: In the Public Land Order No. 7616, 69 FR 59951-59953, published October 6, 2004, as FR Doc. 04 22391, make the following corrections:

On page 59951, in the Title, and in the Summary, “7 Secretarial Orders”, should read “5 Secretarial Orders”. In the Summary, “17,789.94 acres”, and “7,975.30 acres”, should read “17,769.94 acres”, and “7,955.30 acres”, respectively. In paragraph 2 of the Order, delete “September 2, 1914, November 4, 1914,”. On page 59952, column 1, in T. 20 S., R. 46 E., delete “Sec. 20, S½SW¼NE¼”. In column 3, “7,975.30 acres”, should read “7,955.30 acres”.

Dated: March 5, 2007.
Fred O'Ferrall,
Chief, Branch of Land and Mineral Resources.

[FR Doc. E7-4253 Filed 3-8-07; 8:45 am]

BILLING CODE 4310-33-P